DEPARTMENT OF AGRICULTURE

Forest Service

Boundary Establishment for Comprehensive River Management Plan for Crescent Creek National Wild and Scenic River, Deschutes National Forest, Klamath County, Oregon

AGENCY: Forest Service, Agriculture (USDA).

ACTION: Notice of availability.

SUMMARY: In accordance with section 3(b) of the Wild and Scenic Rivers Act, the Forest Service, U.S. Department of Agriculture, is transmitting the final boundary of Crescent Creek National Wild and Scenic River to Congress and providing notice of availability of the Comprehensive River Management Plan.

FOR FURTHER INFORMATION CONTACT: Information may be obtained by contacting John Ransom, Regional Land Surveyor, by telephone at 503-808-2420 or via email at john.ransom@usda.gov. Alternatively, contact the Deschutes National Forest Supervisor's Office at 541-383-5300 or the Deschutes National Forest website: https://www.fs.usda.gov/contactus/deschutes/about-forest/contactus. Individuals who use telecommunication devices for the deaf/hard-of-hearing (TDD) may call the Federal Relay Service (FRS) at 1-800-877-8339, 24 hours a day, every day of the year, including holidays.

SUPPLEMENTARY INFORMATION: The Crescent Creek Wild and Scenic River boundary description and Comprehensive River Management Plan are available for review on the Deschutes National Forest website: https://www.fs.usda.gov/project/?project=47575.

Due to COVID-19 health and safety protocols to protect employees and visitors, many Forest Service offices are closed to the public. The Crescent Creek Wild and Scenic River boundary and Comprehensive River Management Plan are available for review at the following offices, if arrangements are made in advance: USDA Forest Service, Yates Building, 14th and Independence Avenues SW, Washington, DC 20024, phone—800-832-1355; Pacific Northwest Regional Office, 1220 SW Third Avenue, Portland, OR 97204, phone—503-808-2468; and Deschutes National Forest Supervisor's Office, 63095 Deschutes Market Road, Bend, OR 97701, phone—541-383-5300. Please contact the appropriate office prior to arrival.

The Omnibus Oregon Wild and Scenic Rivers Act of 1988 (Pub. L. 100-557) of October 28, 1988 designated Crescent Creek, Oregon as a National Wild and Scenic River, to be administered by the Secretary of Agriculture. As specified by law, the boundary will not be effective until ninety days after Congress receives the transmittal.

Dated: November 26, 2021.
Sandra Watts,
Acting Associate Deputy Chief, National Forest System.

[FR Doc. 2021-26177 Filed 12-1-21; 8:45 am]

BILLING CODE 3411-15-P